NATIONAL TRANSPORTATION SAFETY BOARD

Sunshine Act Meeting

TIME AND DATE: 9:30 a.m., Tuesday, August 30, 2011.

PLACE: NTSB Conference Center, 429 L'Enfant Plaza, SW., Washington, DC 20594.

STATUS: The one item is open to the public.

Matter To Be Considered

8275C Pipeline Accident Report—Natural Gas Transmission Pipeline Rupture and Fire, San Bruno, California, September 9, 2010.

NEWS MEDIA CONTACT: Telephone: (202) 314-6100.

The press and public may enter the NTSB Conference Center one hour prior to the meeting for set up and seating.

Individuals requesting specific accommodations should contact Rochelle Hall at (202) 314-6305 by Friday, August 26, 2011.

The public may view the meeting via a live or archived webcast by accessing a link under “News & Events” on the NTSB home page at http://www.ntsb.gov.

FOR MORE INFORMATION CONTACT: Candi Bing, (202) 314-6403 or by e-mail at bingc@ntsb.gov.

Dated: August 12, 2011.
Candi R. Bing,
Federal Register Liaison Officer.

[FR Doc. 2011-21014 Filed 8-12-11; 4:15 pm]

BILLING CODE 7533-01-P